U.S.-CHINA ECONOMIC AND SECURITY REVIEW COMMISSION

Notice of Open Public Hearing

AGENCY: U.S.-China Economic and Security Review Commission.

ACTION: Notice of open public hearing—July 12-13, 2007, Washington, DC.

SUMMARY: Notice is hereby given of the following hearing of the U.S.-China Economic and Security Review Commission.

Name: Carolyn Bartholomew, Chairman of the U.S.-China Economic and Security Review Commission.

The Commission is mandated by Congress to investigate, assess, evaluate, and report to Congress annually on “the national security implications and impact of the bilateral trade and economic relationship between the United States and the People's Republic of China.” Pursuant to this mandate, the Commission will hold a public hearing in Washington, DC on July 12-13, 2007 on “China's Proliferation and the Impact of Trade Policy on Defense Industries in the United States and China.”

Background

This event is the fifth in a series of public hearings the Commission will hold during its 2007 report cycle to collect input from leading experts in academia, business, industry, government and from the public on the impact of the economic and national security implications of the U.S. bilateral trade and economic relationship with China. The July 12-13 hearing is being conducted to examine the impact of China's proliferation practices on U.S. national security, China's compliance with its own nonproliferation laws and regulations and international nonproliferation norms, the development of an indigenous defense industrial capacity in China, and the impact of trade practices and manufacturing in China on the U.S. defense industrial base.

The July 12-13 hearing on “China's Proliferation and the Impact of Trade Policy on Defense Industries in the United States and China” will be co-chaired by Commissioners Peter Brookes, Mark Esper, William Reinsch, and Michael Wessel.

Information on this hearing, including a detailed hearing agenda and information about panelists, will be made available on the Commission's Web site prior to the hearing date. Detailed information about the Commission, the texts of its annual reports and hearing records, and the products of research it has commissioned can be found on the Commission's Web site at http://www.uscc.gov.

Any interested party may file a written statement by July 12, 2007, by mailing to the contact below.

Date and Time: Thursday, July 12, 2007, 8:30 a.m. to 4:30 p.m.; and Friday, July 13, 2007, 8:30 a.m. to 1 p.m. A detailed agenda for the hearing will be posted to the Commission's Web site at http://www.uscc.gov in the near future.

ADDRESSES: The hearings will be held on Capitol Hill in Room 385, Russell Senate Office Building, located at Delaware & Constitution Avenues, NE., Washington, DC 20510. Public seating is limited to approximately 50 people on a first come, first served basis. Advance reservations are not required.

FOR FURTHER INFORMATION CONTACT: Kathy Michels, Associate Director for the U.S.-China Economic and Security Review Commission, 444 North Capitol Street, NW., Suite 602, Washington, DC 20001; phone: 202-624-1409, or via e-mail at kmichels@uscc.gov.

Authority: Congress created the U.S.-China Economic and Security Review Commission in 2000 in the National Defense Authorization Act (Pub. L. 106-398), as amended by Division P of the Consolidated Appropriations Resolution, 2003 (Pub. L. 108-7), as amended by Public Law 109-108 (November 22, 2005).

Dated: June 25, 2007.
Kathleen J. Michels,
Associate Director, U.S.-China Economic and Security Review Commission.

[FR Doc. E7-12647 Filed 6-28-07; 8:45 am]

BILLING CODE 1137-00-P